DEPARTMENT OF COMMERCE

[I.D. 013100C]

Submission For OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Marine Mammal Stranding Report/Marine Mammal Rehabilitation Disposition Report.

Form Number(s): NOAA Form 89-864.

OMB Approval Number: 0648-0178.

Type of Request: Regular submission.

Burden Hours: 1,600.

Number of Respondents: 400.

Average Hours Per Response: 20 minutes.

Needs and Uses: The marine mammal stranding report provides information on strandings so that NMFS can compile and analyze by region the species, numbers, conditions, and causes of illnesses and deaths in stranded marine mammals. The Agency requires this information to fulfill its management responsibilities under the Marine Mammal Protection Act (16 U.S.C. 1421a). The Agency is also responsible for the welfare of marine mammals while in rehabilitation status. The data from the marine mammal rehabilitation disposition reports are required for monitoring and tracking of marine mammals held at various NMFS-authorized facilities. The information is submitted primarily by volunteer members of the marine mammal stranding networks who are authorized by the Agency.

Affected Public: Not-for-profit institutions, business or other for-profit, and state, local, or tribal government.

Frequency: On occasion.

Respondent's Obligation: Mandatory.

OMB Desk Officer: David Rostker, (202) 395-3897.

Copies of the above information collection proposal can be obtained by calling or writing Madeleine Clayton, DOC Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 29, 2001.
Madeleine Clayton,
Departmental Forms Clearance Officer, Office of the Chief Information Officer.

[FR Doc. 01-2959 Filed 2-2-01; 8:45 am]

BILLING CODE 3510-22-S